DEPARTMENT OF AGRICULTURE

Forest Service

National Urban and Community Forestry Advisory Council

AGENCY: Forest Service, USDA.

ACTION: Notice of Call for Nominations.

SUMMARY: The National Urban and Community Forestry Advisory Council, (NUCFAC) will be filling three positions that will be expiring at the end of December 2008. Interested applicants may download a copy of the application and position descriptions from the U.S. Forest Service's Urban and Community Forestry Web site: http://www.fs.fed.us/ucf/.

DATES: Nomination applications are to be postmarked by September 3, 2008.

ADDRESSES: Nomination Applications should be addressed to: Nancy Stremple, Executive Staff to National Urban and Community Forestry Advisory Council, 1400 Independence Avenue, SW., Yates Building (1 Central) MS-1151, Washington, DC 20250-1151.

FOR FURTHER INFORMATION CONTACT: Nancy Stremple, Executive Staff or Robert Prather, Staff Assistant to National Urban and Community Forestry Advisory Council, 1400 Independence Avenue, SW., Yates Building (1 Central) MS-1151, Washington, DC 20250-1151, phone 202-205-1054.

Individuals who use telecommunication devices for the deaf (TDD) may call the Federal Information Relay Service (FIRS) at 1-800-877-8339 between 8 a.m. and 8 p.m., Eastern Standard Time, Monday through Friday.

SUPPLEMENTARY INFORMATION: Please submit hard copy nomination applications only.

Positions to be filled are for:

• A person that is not an officer or employee of any government body living in a city with a population of more than 50,000 and who has experience and has been active in urban and community forestry.

• A person representing academic institutions with an expertise in urban and community forestry activities.

• A person representing forest products, nursery, or related industries.

Dated: July 25, 2008.
Robin L. Thompson,
Associate Deputy Chief, State and Private Forestry.

[FR Doc. E8-17572 Filed 7-30-08; 8:45 am]

BILLING CODE 3410-11-P